DEPARTMENT OF AGRICULTURE

Forest Service

Information Collection; Request for Comments; Forest Stewardship Program Participant Survey

AGENCY: Forest Service, USDA.

ACTION: Notice.

SUMMARY: In accordance with the Paperwork Reduction Act of 1995, the Forest Service announces its intention to establish the new information collection entitled Forest Stewardship Program Participant Survey. The collected information will enable Forest Service officials to determine the extent to which Forest Stewardship management plans are affecting active forest management on the ground.

DATES: Comments must be received in writing on or before May 3, 2004.

ADDRESSES: Comments concerning this notice should be addressed to Karl R. Dalla Rosa, Forest Stewardship Program Manager, Cooperative Forestry, State & Private Forestry, Mail Stop 1123, Forest Service, USDA, 1400 Independence Avenue, SW., Washington, DC 20250.

Comments also may be submitted via facsimile to (202) 205-1271or by e-mail to kdallarosa@fs.fed.us.

The public may inspect comments received in the Office of the Director, Cooperative Forestry, State & Private Forestry, Forest Service, Room 4, Southeast Wing, Yates Building, 201 14th Street, SW., Washington, DC. Visitors are encouraged to call ahead to (202) 205-6206 to facilitate entry to the building.

FOR FURTHER INFORMATION CONTACT: Karl R. Dalla Rosa, Forest Stewardship Program Manager, (202) 205-6206. Individuals who use telecommunication devices for the deaf (TDD) may call the Federal Relay Service (FRS) at 1-800-877-8339 twenty-four hours a day, every day of the year, including holidays.

SUPPLEMENTARY INFORMATION: Title: Forest Stewardship Program Participant Survey.

OMB Number: 0596-New.

Expiration Date of Approval: N/A.

Type of Request: New.

Abstract: To encourage and enable active long-term forest management, the Cooperative Forestry Assistance Act of 1978 authorizes the Forest Service, through the Forest Stewardship Program (FSP), to provide technical assistance to nonindustrial private forest (NIPF) owners, through State Foresters. A primary focus of the Forest Stewardship Program is the development of comprehensive, multi-resource management plans that provide landowners with the information they need to manage their forests for a variety of products and services. Since its establishment in 1991, the Forest Stewardship Program has produced more than 225,000 multi-resource management plans encompassing more than 25 million acres of nonindustrial private forest (NIPF) land.

Through interviews with a representative sample of participants, such as landowners who have received written management plans, program leaders can learn which aspects of the Forest Stewardship Program are functioning successfully, where improvements may be needed, and the extent to which the Forest Stewardship Program may be complementary to other public programs such as those that offer cost-share assistance for management plan implementation.

While data gathered under the Federal Government Performance and Results Act of 1993 tend to yield measures of program outputs, such as numbers of plans and acres under plans, the goal of the proposed interviews is to provide indicators of outcomes.

The Forest Service has a cooperative agreement with the Center for Great Plains Studies at the University of Nebraska in Lincoln, Nebraska, to collect information. The Center for Great Plains Studies contracted with the public Opinion Lab of Northern Illinois University in De Kalb, Illinois, to conduct telephone interviews with approximately 1,200 respondents. The respondents will be selected randomly by computer from lists of landowner participants provided by State forestry agency partners.

Estimate of Annual Burden: 20 minutes.

Type of Respondents: Non-industrial private landowners, who have received written Forest Stewardship Program management plans.

Estimated Annual Number of Respondents: 1,200 respondents.

Estimated Annual Number of Responses per Respondent: 1.

Estimated Total Annual Burden on Respondents: 400 hours.

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

Use of Comments

All comments received in response to this notice, including names and addresses when provided, will become a matter of public record. Comments will be summarized and included in the submission request for Office of Management and Budget approval.

Dated: February 25, 2004.
Robin L. Thompson,
Acting Deputy Chief, State and Private Forestry.

[FR Doc. 04-4764 Filed 3-2-04; 8:45 am]

BILLING CODE 3410-11-P